ELECTION ASSISTANCE COMMISSION

Sunshine Act Meetings

AGENCY: Election Assistance Commission.

ACTION: Sunshine Act notice; notice of public meeting agenda.

SUMMARY: The U.S. Election Assistance Commission (EAC) will conduct a public meeting to discuss the 2023 Voluntary Electronic Poll Book Pilot Program and consider next steps for the program.

DATES: Monday, December 4, 2:00 p.m.-3:00 p.m. EST.

ADDRESSES: The meeting will be virtual and livestreamed on the U.S. Election Assistance Commission's YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a public meeting to discuss the 2023 EAC Voluntary Electronic Poll Book Pilot Program and consider next steps for the program.

Agenda: The U.S. Election Assistance Commission (EAC) will consider the adoption of the Voluntary Electronic Poll Book Pilot Program as a standing program at the agency. To facilitate this conversation, the EAC Commissioners will hear from the EAC's Election Supporting Technology Evaluation Program (ESTEP) staff on feedback they have received on the pilot and recommendations for next steps for implementation.

Background: Under the authority of the Help America Vote Act (HAVA), the EAC created the Election Supporting Technology Evaluation Program (ESTEP) to establish requirements and guidelines specific to election technologies that are not covered under the Voluntary Voting System Guidelines (VVSG). The e-poll book pilot is the first in a series of pilots conducted by the ESTEP program, which will also examine voter registration databases, election night reporting systems, and electronic ballot delivery systems.

The e-poll book pilot program testing took place between January and August 2023. The pilot involved two VSTLs, Pro V&V and SLI Compliance, that tested e-poll book devices from five commercial manufacturers, and two in-house developers. These systems were tested against the Voluntary Electronic Poll Book Requirements (Version 0.9) developed by ESTEP in consultation with the National Institute of Standards and Technology (NIST), cybersecurity and accessibility experts, and other key stakeholders.

The full agenda will be posted in advance on the EAC website: https://www.eac.gov.

Status: This meeting will be open to the public.

Camden Kelliher,
Deputy General Counsel, U.S. Election Assistance Commission.

[FR Doc. 2023-25135 Filed 11-9-23; 11:15 am]

BILLING CODE 4810-71-P